DEPARTMENT OF COMMERCE

National Oceanic and Atmospheric Administration

RIN: 0648-XS33

Pacific Fishery Management Council; Public Meeting

AGENCY: National Marine Fisheries Service, National Oceanic and Atmospheric Administration, Commerce.

ACTION: Notice of public meetings.

SUMMARY: The Pacific Council and its advisory entities will hold public meetings.

DATES: The Pacific Council and its advisory entities will meet October 30-November 5, 2009. The Council meeting will begin on Saturday, October 31, 2009 at 11 a.m., reconvening each day through Thursday, November 5, 2009. All meetings are open to the public, except a closed session will be held from 11 a.m. until 1 p.m. on Saturday, October 31 to address litigation and personnel matters. The Council will meet as late as necessary each day to complete its scheduled business.

ADDRESSES: The Pacific Council and advisory body meetings will be held at the Hilton Orange County/Costa Mesa, 3050 Bristol Street, Costa Mesa, CA 92626; telephone: (714) 540-7000.

Council address: Pacific Fishery Management Council, 7700 NE Ambassador Place, Suite 101, Portland, OR 97220.

FOR FURTHER INFORMATION CONTACT: Dr. Donald O. McIsaac, Executive Director, telephone: (866) 806-7204 or (503) 820-2280; or access the Pacific Council website, www.pcouncil.org for the current meeting location, proposed agenda, and meeting briefing materials.

SUPPLEMENTARY INFORMATION: The following items are on the Pacific Council agenda, but not necessarily in this order:

A. Call to Order

1. Opening Remarks

2. Roll Call

3. Report of the Executive Director

4. Adopt Meeting Agenda

B. Open Comment Period

1. Comments on Non-Agenda Items

C. Pacific Halibut Management

1. 2010 Pacific Halibut Fishery Regulations

D. Ecosystem Management

1. Ecosystem Based Fishery Management Plan

E. Habitat

1. Current Habitat Issues

F. Highly Migratory Species Management

1. National Marine Fisheries Service (NMFS) Report

2. Recommendations to the Western and Central Pacific Fisheries Commission

3. Fishery Management Plan Amendment 2: Annual Catch Limits and Accountability Measures

G. Groundfish Management

1. NMFS Report

2. Stock Assessments and Rebuilding Plans for 2011-12 Groundfish Fisheries

3. Council Recommendations for Exempted Fishing Permits

4. Part 1 - Inseason Adjustments to 2009 and 2010 Groundfish Fisheries

5. Part 1 - Management Recommendations for 2011-12 Groundfish Fisheries

6. Fishery Management Plan Amendment 23 - Annual Catch Limits and Accountability Measures

7. National Catch Share Task Force Report

8. Fishery Management Plan Amendment 20 - Trawl Rationalization

9. Part 2 - Management Recommendations for 2011-12 Fisheries

10. Part 2 - Inseason Adjustments to 2009 and 2010 Groundfish Fisheries

H. Salmon Management

1. 2009 Salmon Methodology Review

I. Coastal Pelagic Species Management

1. Sardine Stock Assessment and Management Measures

2. Amendment 13: Annual Catch Limits and Accountability Measures

J. Administrative Matters

1. Fiscal Matters

2. Approval of Council Meeting Minutes

3. Membership Appointments and Council Operating Procedures

4. Future Council Meeting Agenda and Workload Planning

SCHEDULE OF ANCILLARY AND ADVISORY BODY MEETINGS
Friday, October 30, 2009 |
Scientific and Statistical Committee | 8 a.m.
Habitat Committee | 8:30 a.m.
Highly Migratory Species Advisory Subpanel | 1 p.m.
Highly Migratory Species Management Team | 1 p.m.
Pacific Council Office | 1 p.m.
Saturday, October 31, 2009 |
Pacific Council Office | 7 a.m.
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Scientific and Statistical Committee | 8 a.m.
Habitat Committee | 8:30 a.m.
Enforcement Consultants | 10 a.m.
Sunday, November 1, 2009 |
Pacific Council Office | 8 a.m.
California State Delegation | 8 a.m.
Oregon State Delegation | 8 a.m.
Washington State Delegation | 8 a.m.
Highly Migratory Species Advisory Subpanel | 8 a.m.
Highly Migratory Species Management Team | 8 a.m.
Scientific and Statistical Committee | 8 a.m.
Enforcement Consultants | 9:30 a.m.
Groundfish Advisory Subpanel | 9:30 a.m.
Groundfish Management Team | 9:30 a.m.
Coastal Pelagic Species Advisory Subpanel and Management in Joint Session | 1 p.m.
Annual Awards Banquet | 6 p.m.
Monday, November 2, 2009 |
Pacific Council Office | 7 a.m.
California State Delegation | 7 a.m.
Oregon State Delegation | 7 a.m.
Washington State Delegation | 7 a.m.
Coastal Pelagic Species Advisory Subpanel | 8 a.m.
Coastal Pelagic Species Management Team | 8 a.m.
Enforcement Consultants | 8 a.m.
Groundfish Advisory Subpanel | 8 a.m.
Groundfish Management Team | 8 a.m.
Tuesday, November 3, 2009 |
Pacific Council Office | 7 a.m.
California State Delegation | 7 a.m.
Oregon State Delegation | 7 a.m.
Washington State Delegation | 7 a.m.
Coastal Pelagic Species Management Team | 8 a.m.
Enforcement Consultants | 8 a.m.
Groundfish Advisory Subpanel | 8 a.m.
Groundfish Management Team | 8 a.m.
Wednesday, November 4, 2009 |
Pacific Council Office | 7 a.m.
California State Delegation | 7 a.m.
Oregon State Delegation | 7 a.m.
Washington State Delegation | 7 a.m.
Enforcement Consultants | 8 a.m.
Groundfish Advisory Subpanel | 8 a.m.
Groundfish Management Team | 8 a.m.
Thursday, November 5, 2009 |
Pacific Council Office | 7 a.m.
California State Delegation | 7 a.m.
Oregon State Delegation | 7 a.m.
Washington State Delegation | 7 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: October 9, 2009.
Tracey L. Thompson,
Acting Director, Office of Sustainable Fisheries, National Marine Fisheries Service.

[FR Doc. E9-24741 Filed 10-14-09; 8:45 am]

BILLING CODE 3510-22-S